DEPARTMENT OF THE INTERIOR

National Park Service

[NPS-WASO-NRNHL-1011-8676; 2200-3200-665]

National Register of Historic Places; Notification of Pending Nominations and Related Actions

Nominations for the following properties being considered for listing or related actions in the National Register were received by the National Park Service before October 8, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St. NW., 8th floor, Washington, DC 20005; or by fax, (202) 371-6447. Written or faxed comments should be submitted by November 14, 2011. Before including your address, phone number, email address, or other personal identifying information in your comment, you should be aware that your entire comment—including your personal identifying information—may be made publicly available at any time. While you can ask us in your comment to withhold your personal identifying information from public review, we cannot guarantee that we will be able to do so.

Alexandra Lord,
Acting Chief, National Register of Historic Places/National Historic Landmarks Program.

IOWA

Adair County

Hotel Greenfield, 110 E. Iowa St., Greenfield, 11000812

Black Hawk County

Waterloo East Commercial Historic District (Iowa's Main Street Commercial Architecture MPS), 128-329 E. 4th, 612-616 Mulberry, 501-632 Sycamore Sts., Waterloo, 11000813

Buena Vista County

Danish Lutheran Church, 113 W. 4th St., Alta, 11000814

Carroll County

Armour Creameries Poultry House, 218 5th Ave. S., Coon Rapids, 11000815

MAINE

Androscoggin County

Issacson, Philip M. and Deborah N., House, 2 Benson St., Lewiston, 11000816

Waldo County

Seven Star Grange, No. 73, 696 Bangor Rd., Troy, 11000817

Troy Meeting House, 514 Bangor Rd., Troy, 11000818

York County

Emery School, 116 Hill St., Biddeford, 11000819

MARYLAND

Howard County

Oakland Mills Blacksmith House and Shop, 5471 Old Columbia Pike, Columbia, 11000820

Prince George's County

Fairmont Heights Historic District, 56th Ave., Sheriff Rd., Balsamtree Dr., 62nd St., 62nd Pl., Eastern Ave., Fairmount Heights, 11000821

Glenn Dale Tuberculosis Hospital and Sanatorium, 5201 Glenn Dale Rd., Glenn Dale, 11000822

MASSACHUSETTS

Barnstable County

Truro Highlands Historic District, Highland Light Rd., Truro, 11000823

MONTANA

Valley County

Glasgow Army Airfield Norden Bombsight Storage Vault, ½ mi. N. of Glasgow, Glasgow, 11000824

NEW MEXICO

Eddy County

LA 157206—White Oaks Pictograph Site (Guadalupe Mountains Rock Art MPS), Address Restricted, Queen, 11000829

LA 158783—Ambush Site (Guadalupe Mountains Rock Art MPS), Address Restricted, Queen, 11000825

LA 162411—Lost Again Shelter (Guadalupe Mountains Rock Art MPS), Address Restricted, Queen, 11000828

LA 64908—Ambush Two Hands Shelter (Guadalupe Mountains Rock Art MPS), Address Restricted, Queen, 11000826

LA 71921—Horse Well Shelters (Guadalupe Mountains Rock Art MPS), Address Restricted, Queen, 11000827

TENNESSEE

Anderson County

Fort Anderson on Militia Hill, Vowell Mountain Rd., Lake City, 11000830

VERMONT

Chittenden County

LeClair Avenue Historic District, 6, 7, 8, 11, 14 LeClair Ave., 11-13, 12, 20 North St., Winooski, 11000831

VIRGINIA

Amelia County

Barrett—Chumney House, 2400 Richmond Rd., Amelia Courthouse, 11000832

Chesterfield County

Bellwood (Boundary Increase), 8000 Jefferson Davis Hwy., Richmond, 11000833

Fairfax County

Freeman Store, 131 Church St. NE., Vienna, 11000834

Woodlawn Plantation (Boundary Increase), 9000 Richmond Hwy., Alexandria, 11000836

Loudoun County

Unison Battlefield Historic District, Parts of Quaker Ln., Jeb Stuart, Unison, Newlin Mill, Millville, Bloomfield, Welbourne, Greengarden Rds., Unison, 11000835

Petersburg Independent City

Sutherland House, 606 Harding St., Petersburg (Independent City), 11000837

Roanoke Independent City

City of Roanoke Fire Station No. 5, 216 12th St. NW., Roanoke (Independent City), 11000838

Rockingham County

Cave Hill Farm, 9780 Cave Hill Rd., McGaheysville, 11000839

Shenandoah County

Maphis, John Miley, 56 Bell's Ln., Edinburg, 11000840

WISCONSIN

Forest County

Armstrong Creek Bridge, Old 101 Rd. over Armstrong Cr., Armstrong Creek, 11000841

[FR Doc. 2011-27890 Filed 10-27-11; 8:45 am]

BILLING CODE 4312-51-P